DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 17, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: 2024 Tenure, Ownership, and Transition of Agricultural Land (TOTAL) Survey.

OMB Control Number: 0535-0240.

Summary of Collection: The 2024 Tenure, Ownership, and Transition of Agricultural Land (TOTAL) is an integral part of the 2022 Census of Agriculture and is conducted under the authority of the Census of Agriculture Act of 1997 (Pub. L. 105-113). This law requires the Secretary of Agriculture to conduct a census of agriculture in 1998 and every fifth year following 1998. The primary functions of the National Agricultural Statistics Service (NASS) are to prepare and issue State and national estimates of crop and livestock production, disposition, and prices and to collect information on related environmental and economic factors.

Need and Use of the Information: TOTAL will be conducted as a follow-on survey to the 2022 Census of Agriculture and will use two questionnaires, one for farm operators and one for landlords who do not farm. The survey will obtain data to accurately define the economic status of U.S. farm operations and households. Detailed, farm level, economic data are essential for making informed decisions relating to the farming industry. The combined data series will yield a complete picture of farm expenses and land ownership of American farmland.

Approximately every ten years (coinciding with the Census of Agriculture), a survey of farmland ownership and farm operators regarding farm revenues and expenses is conducted. We propose to field TOTAL to address this need. In intervening years, the Agricultural Resource Management Survey Phase 3 (ARMS 3) (OMB #0535-0275), an economic survey with content similar to the farm operator portion of the decennial survey, is conducted. Accordingly, in this proposal to field TOTAL, we also propose to suspend ARMS 3 for the 2024 crop year (would have been enumerated in 2025) to minimize respondent burden as well as to remove possible duplication of data.

This is a reinstatement with change, of the TOTAL survey to be conducted as a follow-on survey to the 2022 Census of Agriculture. Changes from the previous TOTAL survey include collecting data from all 50 States as opposed to excluding Alaska and Hawaii as in previous surveys. Alaska and Hawaii will be included in published landlord statistics for other States and not individually like what will be published for the 15 largest agricultural producing States based on value of sales (core States).

Description of Respondents: Farms; Business or other for-profit.

Number of Respondents: 89,600.

Frequency of Responses: Reporting: Annually.

Total Burden Hours: 115,055.

Levi S. Harrell,
Departmental Information Collection Clearance Officer.

[FR Doc. 2024-21069 Filed 9-16-24; 8:45 am]

BILLING CODE 3410-20-P